DEPARTMENT OF ENERGY

Federal Energy Regulatory Commission

[Project No. 12626-002; Project No. 12717-002]

Northern Illinois Hydropower, LLC; Notice of Meeting

July 7, 2010.

a. Date and Time of Meeting: Thursday, July 22, 2010 from 9 a.m. to 12 p.m. CDT.

b. Place: Illinois Historic Preservation Agency, Old State Capitol Building, Springfield, IL 62701.

c. FERC Contact: Janet Hutzel, (202) 502-8675 or janet.hutzel@ferc.gov.

d. Purpose of Meeting: Commission staff will be meeting with Illinois Historic Preservation Agency to discuss the effects that the Dresden Island (P-12626-002) and Brandon Road (P-12717-002) projects may have on cultural resources. Discussion topics will include the following: (1) Effects that project operations may have on properties listed on, or eligible for, the National Register of Historic Places (historic properties); (2) ways to lessen, avoid, or mitigate for adverse effects on historic properties; and (3) the Commission's standard programmatic agreement and guidelines for the development of Historic Properties Management Plans.

e. All local, state, and federal agencies, tribes, and interested parties are hereby invited to participate. The meeting location will be provided upon a request made by interested parties. Please make that request to Janet Hutzel via e-mail at janet.hutzel@ferc.gov by the close of business on Wednesday, July 14, 2010.

Kimberly D. Bose,
Secretary.

[FR Doc. 2010-17108 Filed 7-13-10; 8:45 am]

BILLING CODE 6717-01-P